COURT SERVICES AND OFFENDER SUPERVISION AGENCY FOR THE DISTRICT OF COLUMBIA

28 CFR Part 811

RIN 3225-AA10

Sex Offender Registration Amendments

AGENCY: Court Services and Offender Supervision Agency for the District of Columbia.

ACTION: Proposed rule.

SUMMARY: The Court Services and Offender Supervision Agency for the District of Columbia (“CSOSA”) is issuing a proposed rule to amend its current rule that sets forth procedures and requirements relating to periodic verification of registration information for sex offenders. The proposed rule, if finalized, would permit CSOSA to verify addresses of sex offenders by conducting home visits on its own accord and with its law enforcement partners. The proposed rule, if adopted, would also clarify the schedule for verifying home addresses, even for those sex offenders who are required to register but are not under CSOSA's supervision.

DATES: Submit comments on or before February 11, 2013. All comments, including attachments and other supporting materials, will be part of the public record and will be subject to public disclosure. Sensitive personal information such as social security numbers should not be included with your comments.

ADDRESSES: Submit comments to Office of the General Counsel, CSOSA, 633 Indiana Avenue, NW., Room 1380, Washington, DC 20004.

FOR FURTHER INFORMATION CONTACT: Rorey Smith, Deputy General Counsel, (202) 220-5797, or rorey.smith@csosa.gov. Questions about this publication are welcome, but inquiries concerning individual cases cannot be answered over the telephone.

SUPPLEMENTARY INFORMATION:

I. Background

CSOSA is responsible under the District of Columbia Sex Offender Registration Act of 1999, DC Law 13-137, DC Official Code Sections 22-4001 et seq., for carrying out the sex offender registration functions in the District of Columbia, including verification of information maintained on sex offenders. In addition, the Sex Offender Registration and Notification Act (SORNA), Title I of the Adam Walsh Child Protection and Safety Act of 2006, (Pub. L. 109-248), provides a comprehensive set of minimum standards for sex offender registration and notification in the United States. SORNA is designed to strengthen and increase the effectiveness of sex offender registration and notification for the protection of the public and to reduce the risk that sex offenders could evade registration requirements or the consequences of registration violations. This amendment will allow CSOSA to better meet the requirements of the District of Columbia Sex Offender Registration Act of 1999 and SORNA.

II. Statutory Authority

The District of Columbia Sex Offender Registration Act of 1999

The District of Columbia Sex Offender Registration Act of 1999, DC Law 13-137, DC Official Code Sections 22-4001 et seq., grants CSOSA the authority to adopt and implement procedures and requirements for verification of address information and other information required for registration.

The Sex Offender Registration and Notification Act (SORNA)

The Sex Offender Registration and Notification Act (SORNA), Title I of the Adam Walsh Child Protection and Safety Act of 2006, (Pub. L. 109-248), requires a sex offender to appear in person, allowing the jurisdiction to take a current photograph and verify the information in the sex offender registry on a scheduled frequency. Jurisdictions may require verification of registration information with greater frequency than that required by SORNA and may wish to include in their systems additional means of verification for registration information, such as mailing address verification forms to the registered residence address, requesting that the sex offender to sign and return a verification form, crosschecking information provided by the sex offender for inclusion in the registry against other records systems, and verifying home addresses through home visits.

Jurisdictions are required to notify appropriate law enforcement agencies of failures by sex offenders to comply with registration requirements, and such registration violations must be reflected in the sex offender registry. SORNA requires that jurisdictions and the appropriate law enforcement agencies take any appropriate action to ensure compliance. Federal law enforcement resources, including those of the United States Marshals Service, are permitted to assist jurisdictions in locating and apprehending sex offenders who violate registration requirements.

III. Request for Comments

CSOSA invites comments to address its proposed rule amending its existing rule, permitting CSOSA to: (1) Verify addresses of sex offenders by conducting home visits on its own accord and with its law enforcement partners, and (2) clarify the schedule for verifying home addresses, even for those sex offenders who are required to register but are not under CSOSA's supervision.

IV. Matters of Regulatory Procedure

Executive Order 12866

CSOSA has determined that this proposed rule is not a significant rule within the meaning of Executive Order 12866.

Executive Order 13132

This rule will not have substantial direct effects on the States, on the relationship between the national government and the States, or on the distribution of power and responsibilities among the various levels of government. Under Executive Order 13132, this rule does not have sufficient federalism implications requiring a Federalism Assessment.

Regulatory Flexibility Act

The proposed rule will not have a significant economic impact upon a substantial number of small entities within the meaning of the Regulatory Flexibility Act, 5 U.S.C. 605(b).

Unfunded Mandates Reform Act of 1995

The rules will not cause State, local, or tribal governments, or the private sector, to spend $100,000,000 or more in any one year, and it will not significantly or uniquely affect small governments. No action under the Unfunded Mandates Reform Act of 1995 is necessary.

Small Business Regulatory Enforcement Fairness Act of 1996 (Subtitle E-Congressional Review Act)

These rules are not “major rules” as defined by Section 804 of the Small Business Regulatory Enforcement Fairness Act of 1996 Subtitle E-Congressional Review Act), now codified at 5 U.S.C. 804(2). The rules will not result in an annual effect on the economy of $100,000,000 or more; a major increase in costs or prices; or significant adverse effects on the ability of United States-based companies to compete with foreign-based companies. Moreover, these are rules of agency practice or procedure that do not substantially affect the rights or obligations of non-agency parties, and do not come within the meaning of the term “rule” as used in Section 804(3)(C), now codified at 5 U.S.C. 804(3)(C). Therefore, the reporting requirement of 5 U.S.C. 801 does not apply.

List of Subjects in 28 CFR Part 811

Probation and parole.

For the reasons set forth in the preamble, the Court Services and Offender Supervision Agency for the District of Columbia proposes to amend 28 CFR Part 811 as follows:

PART 811 [AMENDED]

1. The authority citation for 28 CFR part 811 is revised to read as follows:

Authority: DC ST § 24-133 and the District of Columbia Sex Offender Registration Act of 1999, DC Law 13-137.

2. In § 811.9, revise paragraph (c) and add paragraph (e) to read as follows:

§ 811.9 Periodic verification of registration information.

* * * * *

(c) Quarterly or annually, as appropriate, CSOSA will send a certified letter with return receipt requested to the home of the sex offender.

* * * * *

(e) CSOSA, either on its own accord or with its law enforcement partners, will conduct home verifications of registered sex offenders pursuant to the following schedule:

(1) Semi-annually, at least every six months, for all registered Class A sex offenders without supervision obligation.

(2) Annually, for all registered Class B sex offenders without a supervision obligation.

(3) As directed by CSOSA and consistent with Agency policy for all Class A and B sex offenders with supervision obligation.

Dated: December 3, 2012
Nancy M. Ware,
Director, CSOSA.

[FR Doc. 2012-29636 Filed 12-10-12; 8:45 am]

BILLING CODE 3129-01-P